DEPARTMENT OF HEALTH AND HUMAN SERVICES

Centers for Disease Control and Prevention

[60Day-20-20PA; Docket No. CDC-2020-0069]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “DOP Cross-Site Evaluation of Overdose Data to Action Program.” This collection is designed to assess the implementation and the effectiveness of the Overdose Data to Action (OD2A) program (CDC-RFA-CE19-1904) activities and identify the conditions under which these activities are effective and for whom.

DATES: CDC must receive written comments on or before August 14, 2020.

ADDRESSES: You may submit comments, identified by Docket No. CDC-2020-0069 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

DOP Cross-Site Evaluation of Overdose Data to Action Program-New—National Center for Injury Prevention and Control (NCIPC), Centers for Disease Control and Prevention (CDC).

Background and Brief Description

Overdose Data to Action Program (OD2A) is a comprehensive, national overdose prevention program developed by CDC's NCIPC. The purpose of the OD2A program is to support funded jurisdictions in obtaining high quality, complete, and timely data on opioid prescribing and overdoses, and to use those data to inform prevention and response efforts. The OD2A (CDC-RFA-CE19-1904) funds a total of 66 recipients (state and local health departments) to implement surveillance and prevention strategies, through a three-year cooperative agreement. OD2A funded recipients consist of 47 state-, 16 city/county-, and three district/territory-level jurisdictions.

The purpose of this information collection is to assess the implementation and the effectiveness of the OD2A program activities and identify the conditions under which these activities are most effective. Activities include key informant interviews (KII) and focus groups (FG), and are focused on the tools needed to evaluate the unique OD2A program.

The implementation evaluation will identify the barriers and facilitators associated with deploying several prevention activities targeting specific populations within specific jurisdictions. The outcome evaluation will assess short term (e.g., increased awareness and coordination of linkages to care) and intermediate (e.g., increased provider, health system, and payer awareness of and supports for guideline-concordant opioid prescribing, non-opioid medications, and non-pharmacological treatments) outcomes.

Data collected from this evaluation will be used by the CDC to obtain valid information regarding how recipients operationalized and implemented their chosen prevention activities, assess the impact of OD2A and different components of OD2A on the trajectory of the opioid epidemic, and through the provision of these data back to the recipients, improve the implementation and impact of further OD2A prevention activities.

Estimated Annualized Burden Hours
Type of respondent | Form name | Number of respondents | Number of responses per respondent | Average burden per response | Total burden (hours)
Jurisdictions implementing OD2A program (e.g., PMs, PIs, SSLs, PSLs, Partners, or Stakeholders) | Key Informant Interview Guides Focus Group Guides | 288 252 | 1 1 | 60 90 | 288 378
| Permission to be recorded | 540 | 1 | 5 | 45
| Interview Recruitment Email | 288 | 1 | 5 | 24
| Focus Group Recruitment Email | 252 | 1 | 5 | 21
| Interview Recruitment Reminder Email | 288 | 1 | 5 | 24
| Focus Group Recruitment Reminder Email | 252 | 1 | 5 | 21
| Post-information Collection Follow up Email | 540 | 1 | 5 | 45
Total |  |  |  |  | 846

Jeffrey M. Zirger,
Lead, Information Collection Review Office, Office of Scientific Integrity, Office of Science, Centers for Disease Control and Prevention.

[FR Doc. 2020-12808 Filed 6-12-20; 8:45 am]

BILLING CODE 4163-18-P